DEPARTMENT OF THE INTERIOR

Fish and Wildlife Service

Notice of Availability of the Draft Recovery Plan for the Pecos Sunflower (Helianthus paradoxus)

AGENCY: Fish and Wildlife Service, Interior.

ACTION: Notice of document availability.

SUMMARY: The U.S. Fish and Wildlife Service (Service) announces the availability for public review of the draft Recovery Plan for the Pecos sunflower (Helianthus paradoxus). The Pecos sunflower is a wetland annual plant that grows on wet, alkaline soils at spring seeps, wet meadows and pond margins. It has six widely spaced populations in west-central and eastern New Mexico and west Texas. The Service solicits review and comment from the public on this draft plan.

DATES: The comment period for this proposal closes on August 2, 2004. Comments on the draft Recovery Plan must be received by the closing date.

ADDRESSES: Persons wishing to review the draft Recovery Plan can obtain a copy from the U.S. Fish and Wildlife Service, New Mexico Ecological Services Field Office, 2105 Osuna, NE., Albuquerque, New Mexico, 87113. If you wish to comment, you may submit your comments and materials concerning this draft Recovery Plan to the Field Supervisor at the address above.

FOR FURTHER INFORMATION CONTACT: Rawles Williams, New Mexico Ecological Services Field Office, at the above address; telephone 505/346-2525, facsimile 505/346-2542.

SUPPLEMENTARY INFORMATION:

Background

Restoring an endangered or threatened animal or plant to the point where it is again a secure, self-sustaining member of its ecosystem is a primary goal of the Service's endangered species program. To help guide the recovery effort, the Service is working to prepare Recovery Plans for most of the listed species native to the United States. Recovery Plans describe actions considered necessary for conservation of species, establish criteria for downlisting or delisting them, and estimate time and cost for implementing the recovery measures needed.

The Endangered Species Act of 1973 (Act), as amended (16 U.S.C. 1531 et seq.) requires the development of Recovery Plans for listed species unless such a Plan would not promote the conservation of a particular species. Section 4(f) of the Act, as amended in 1988, requires that public notice and an opportunity for public review and comment be provided during Recovery Plan development. The Service will consider all information presented during a public comment period prior to approval of each new or revised Recovery Plan. The Service and other Federal agencies will also take these comments into account in the course of implementing Recovery Plans.

The document submitted for review is the draft Recovery Plan for the Pecos sunflower. The species was listed as threatened on October 20, 1999, under the Endangered Species Act of 1973.

The threats facing the survival and recovery of this species are the loss and alteration of its wetland habitat due to aquifer depletions, diversions of surface water, and filling wetlands for conversion to dry land; competition from non-native plant species, including Russian olive and saltcedar; excessive livestock grazing; and, highway maintenance and mowing. The draft Recovery Plan includes scientific information about the species and provides objectives and actions needed to delist the species. Recovery activities designed to achieve these objectives include identifying and securing core conservation habitats essential for the long-term survival of this species, continuing life history, population, and habitat studies, ensuring compliance with existing regulations, and promoting opportunities for voluntary conservation of the species.

The draft Recovery Plan is being submitted for technical and agency review. After consideration of comments received during the review period, the Recovery Plan will be submitted for final approval.

Public Comments Solicited

The Service solicits written comments on the draft Recovery Plan described. All comments received by the date specified above will be considered prior to approval of the final Recovery Plan.

Authority

The authority for this action is section 4(f) of the Endangered Species Act, 16 U.S.C. 1533(f).

Dated: June 15, 2004.
Dom Ciccone,
Acting Regional Director, Region 2.

[FR Doc. 04-15063 Filed 7-1-04; 8:45 am]

BILLING CODE 4310-55-P